NUCLEAR REGULATORY COMMISSION

[Docket No. 11005620; NRC-2020-0105]

Energy Solutions Services, Inc.

AGENCY: Nuclear Regulatory Commission.

ACTION: Export license amendment application; opportunity to provide comment, request a hearing, and petition for leave to intervene.

SUMMARY: The U.S. Nuclear Regulatory Commission (NRC) received and is considering an application (XW010/04) from EnergySolutions Services, Inc. (ESSI) to amend and renew an existing license authorizing the export of radioactive waste to Canada. The NRC is providing notice of the opportunity to submit written comments, request a hearing, or a petition for leave to intervene on ESSI's application.

DATES: Submit comments by October 2, 2020. Comments received after this date will be considered if it is practical to do so, but the Commission is able to ensure consideration only for comments received before this date. A request for a hearing or a petition for leave to intervene must be filed by October 2, 2020.

ADDRESSES: You may submit comments by any of the following methods:

• Federal Rulemaking website: Go to https://www.regulations.gov and search for Docket ID NRC-2020-0105. Address questions about Docket IDs in Regulations.gov to Jennifer Borges; telephone: 301-287-9127; email: Jennifer.Borges@nrc.gov. For technical questions contact the individual listed in the FOR FURTHER INFORMATION CONTACT section of this document.

• Email comments to: Hearing.Docket@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Stephen C. Baker, Office of International Programs, U.S. Nuclear Regulatory Commission, Washington, DC 20555-0001, telephone: 301-287-9059, email: Stephen.Baker@nrc.gov.

SUPPLEMENTARY INFORMATION:

I. Obtaining Information and Submitting Comments

A. Obtaining Information

Please refer to NRC-2020-0198 or Docket No. 11005620 when contacting the NRC about the availability of information for this action. You may obtain publicly-available information related to this action by the following methods:

• Federal Rulemaking Website: Go to https://www.regulations.gov and search for Docket ID NRC-2020-0186.

• NRC's Public Website: Go to https://www.nrc.gov and search for XW010/04, Docket No. 11005620, or Docket ID NRC-2020-0105.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The export license amendment application from ESSI is available in ADAMS under Accession No. ML20211L826.

B. Submitting Comments

Please include Docket ID NRC-2020-0105 or Docket No. 11005620 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

In accordance with section 110.70(b) of title 10 of the Code of Federal Regulations (10 CFR), the NRC is providing notice of an application (XW010/04), submitted by ESSI on July 28, 2020, to amend and renew an existing export license authorizing the export of Canadian-origin radioactive waste from ESSI processing facilities in the State of Tennessee to Canada. The existing export license (XW010/03), which expires on December 31, 2020, authorizes the export of up to 10,000 tons of low-level radioactive waste, previously imported from Canada, resulting from the incineration of heath ash non-conforming materials. The application requests: (1) Renewing the cumulative radioactivity limits for XW010 of the total quantities of radioactive material/waste and increasing the weight of radioactive material/waste exported to Canada; (2) adding to the export license the authorization to export primary heat transfer pumps back to Canada if they are deemed unrepairable and categorized as waste for disposal in Canada if not processed for metal melt recycle; and (3) extending the license expiration date to December 31, 2026.

The NRC is providing notice of the receipt of the application; providing the opportunity to submit written comments concerning the application; and providing the opportunity to request a hearing or petition for leave to intervene for a period of 30 days after publication of this notice in the Federal Register. A hearing request or petition for leave to intervene must include the information specified in 10 CFR 110.82(b). Any request for hearing or petition for leave to intervene shall be served by the requestor or petitioner in accordance with 10 CFR 110.89(a), either by delivery, by mail, or filed with the NRC electronically in accordance with NRC's E-Filing rule (72 FR 49139; August 28, 2007, as amended at 77 FR 46562, August 3, 2012). Information about filing electronically is available on the NRC's public website at https://www.nrc.gov/site-help/e-submittals.html.

To ensure timely electronic filing, at least 10 days prior to the filing deadline, the petitioner/requestor should contact the Office of the Secretary by email at Hearing.Docket@nrc.gov, or by calling 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

The information concerning this application for an export license amendment follows.

NRC Export License Amendment/Renewal Application
Application Information
Name of Applicant | EnergySolutions Services, Inc.
Date of Application | July 14, 2020.
Date Received | July 28, 2020.
Application No. | XW010/04.
Docket No. | 11005620.
ADAMS Accession No. | ML20211L826.
Description of Material
Material Type | Mixed waste consisting of mixed hazardous and radioactive waste constituents, contaminated recyclable resource material/waste such as lead bricks or sheet as necessary.
Total Quantity ¹ | Authorization to export a total maximum quantity of 380.064 TBq, based on the maximum activity authorized for possession at Energy Solutions Canada, Inc. ES Walker Operations as follows:
| H-3: 14.8 TBq,
| C-14: 7.4 Tbq,
| Ra-226: 0.74 TBq,
| Th-232: 0.74 TBq,
| Po-210: 0.37 TBq,
| Uranium (natural or depleted): 7.4 TBq,
| Uranium (not U-233, U-235 or U-238): 0.07 TBq,
| Atomic number 3 to 83: 29.6 TBq,
| Atomic number 84 to 91 (total): 0.09,
| Transuranics (TRU): 0.09 TBq,
| Am-241: 9.3 TBq,
| Fe-55: 37 TBq, and
| Special Nuclear Material (SNM), 235U equivalent: 350 grams.²
End Use | Return of non-conforming waste and/or waste resulting from processing materials for appropriate disposition.
| The amendment requests:
| (1) Renewing the radioactive limits for XW010 of the total quantities of radioactive material/waste and weights exported to Canada; (2) adding authorization to export primary heat transfer pumps back to Canada if they are deemed unrepairable and categorized as waste for disposal in Canada if not processed for metal melt recycle; and (3) extending the license expiration date to December 31, 2026.
Country of Destination | Canada.
¹ The permit activity limits are the cumulative total maximums over the term of the permit.
² Uranium 235 gram equivalent by weight of 350 grams (ESSI will not import enrichment level that exceed 20% by weight U-235)

Dated: August 27, 2020.
For the Nuclear Regulatory Commission.
David L. Skeen,
Deputy Director, Office of International Programs.

[FR Doc. 2020-19404 Filed 9-1-20; 8:45 am]

BILLING CODE 7590-01-P